DEPARTMENT OF TRANSPORTATION

Federal Railroad Administration

[Docket No. FRA-2022-0026]

Notice of Availability of a Final General Conformity Determination for the California High-Speed Rail System, San Francisco to San Jose Section

AGENCY: Federal Railroad Administration (FRA), U.S. Department of Transportation (DOT).

ACTION: Notice.

SUMMARY: FRA is providing this notice to advise the public that it is issuing a Final General Conformity Determination (FCD) for the San Francisco to San Jose Section of the California High-Speed Rail (HSR) System (Project). The Project is located between Fourth and King Street Station in San Francisco, CA, and Scott Boulevard in Santa Clara, CA, along and adjacent to the existing Caltrain rail corridor.

FOR FURTHER INFORMATION CONTACT: Lana Lau, Supervisory Environmental Protection Specialist, RPD, telephone: (202) 923-5314, email: Lana.Lau@dot.gov; or Marlys Osterhues, Chief Environment and Project Engineering, RPD, telephone: (202) 493-0413, email: Marlys.Osterhues@dot.gov.

SUPPLEMENTARY INFORMATION: Pursuant to 23 U.S.C. 327 (Section 327), the California High-Speed Rail Authority (Authority) has assumed FRA's environmental review responsibilities under the National Environmental Policy Act (NEPA; 42 U.S.C. 4321 et seq.). However, under Section 327, FRA remains responsible for compliance with the Clean Air Act General Conformity requirements. In compliance with NEPA and the California Environmental Quality Act (CEQA), the Authority published a Final Environmental Impact Record/Final Environmental Impact Statement (EIR/EIS) for the San Francisco to San Jose Section of the California High-Speed Rail (HSR) System on June 10, 2022.

FRA prepared a Draft General Conformity Determination, pursuant to 40 CFR part 93, subpart B, which establishes the process for complying with the General Conformity requirements of the Clean Air Act. FRA published a notice in the Federal Register on May 2, 2022, advising the public of the availability of the Draft Conformity Determination for a 30-day review and comment period. The Draft Conformity Determination was published at http://www.regulations.gov, Docket No. FRA-2022-0026. The comment period of the Draft Conformity Determination closed on June 2, 2022. FRA received one comment on the Draft General Conformity Determination on behalf of the City of Brisbane. The commenter stated “the Draft GCD findings are erroneous because it is based upon the Project's EIR/EIS, which provides inaccurate and incomplete information.” The commenter also identified specific statements in the Draft General Conformity Determination where the commenter believed the analysis was deficient. FRA prepared a response to the City's comment, which is included as Attachment B to the Final General Conformity Determination.

FRA prepared the Final General Conformity Determination pursuant to 40 CFR part 93, subpart B, and based on the Authority's coordination with the U.S. Environmental Protection Agency (EPA), Bay Area Air Quality Management District (BAAQMD), and the California Air Resources Board (CARB). The analysis found that construction period emissions for one of the Project alternatives (Alternative B) would exceed the General Conformity de minimis threshold for Nitrogen Oxides (NOx). However, operation of the Project would result in an overall reduction of regional emissions of all applicable air pollutants and would not cause a localized exceedance of an air quality standard. Consistent with the General Conformity Rule, the Authority will ensure all remaining emissions that exceed the de minimis thresholds, after implementation of the impact avoidance and minimization features and onsite mitigation measures, will be completely mitigated to zero through agreements with the applicable air districts. Based on this commitment, FRA determined the Project will conform to the requirements in the approved State Implementation Plan.

The Final General Conformity Determination is available at http://www.regulations.gov, Docket No. FRA-2022-0026, and FRA's website at https://railroads.dot.gov/environment/environmental-reviews/clean-air-act-california-general-conformity-determinations,

Issued in Washington, DC
Marlys A. Osterhues,
Chief Environment and Project Engineering.

[FR Doc. 2022-16164 Filed 7-27-22; 8:45 am]

BILLING CODE 4910-06-P